DEPARTMENT OF LABOR

Employment and Training Administration

[TA-W-40,070]

Engelhard Corporation, McIntyre, GA; Notice of Termination of Investigation

Pursuant to section 221 of the Trade Act of 1974, an investigation was initiated on September 4, 2001, in response to a petition filed by a company official on behalf of workers at Engelhard Corporation, McIntyre, Georgia.

The company official submitting the petition has requested that the petition be withdrawn. Consequently, further investigation in this case would serve no purpose, and the investigation has been terminated.

Signed at Washington, DC, this 30th day of October, 2001.
Linda G. Poole,
Certifying Officer, Division of Trade Adjustment Assistance.

[FR Doc. 01-28172 Filed 11-8-01; 8:45 am]

BILLING CODE 4510-30-M